DEPARTMENT OF HOMELAND SECURITY

Transportation Security Administration

[Docket No. TSA-2006-25335]

RIN 1652-ZA08 [Corrected]

Privacy Act of 1974: System of Records; National Finance Center (NFC) Payroll Personnel System; Correction

AGENCY: Transportation Security Administration, DHS.

ACTION: Notice to establish a new system of records; request for comments; correction.

SUMMARY: This document makes a correction to the notice published in the Federal Register on July 17, 2006, establishing a new system of records under the Privacy Act of 1974. The new system is known as the National Finance Center Payroll Personnel System (DHS/TSA 022) and is to be used to reflect the Transportation Security Administration's (TSA) migration from its legacy payroll system (the Department of Transportation's Integrated Personnel and Payroll System (IPPS), Consolidated Uniform Payroll System (CUPS), and Consolidated Personnel Management Information System (CPMIS)) to the Department of Agriculture's National Finance Center (NFC). TSA inadvertently transposed the digits in the RIN number in the document headings section. This document corrects this number.

DATES: Effective July 26, 2006.

FOR FURTHER INFORMATION CONTACT: Marisa Mullen, Office of the Chief Counsel (Regulations), TSA-2, Transportation Security Administration, 601 South 12th Street, Arlington, VA 22202-4220; telephone (571) 227-2706.

SUPPLEMENTARY INFORMATION:

Background

On July 17, 2006, TSA published a notice in the Federal Register (71 FR 40530), establishing a new system of records under the Privacy Act of 1974, known as the National Finance Center Payroll Personnel System (DHS/TSA 022). TSA inadvertently transposed the digits in the RIN number in the document headings section. This document corrects this number from RIN 1652-AZ08 to RIN 1652-ZA08.

Correction

In notice FR Doc. E6-11235, published on July 17, 2006 (71 FR 40530), make the following correction:

On page 40530, column one, line five, in the document headings section, remove the words “RIN 1652-AZ08” and add in its place the words “RIN 1652-ZA08”.

Issued in Arlington, Virginia, on July 19, 2006.
Mardi Ruth Thompson,
Deputy Chief Counsel for Regulations.

[FR Doc. E6-11903 Filed 7-25-06; 8:45 am]

BILLING CODE 9110-05-P